DEPARTMENT OF THE INTERIOR

Fish and Wildlife Service

[FWS-R8-ES-2010-N075; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before May 21, 2010.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-237017

Applicant: Tetra Tech Incorporated, Santa Barbara, California.

The applicant requests a permit to take (survey, capture, and release) the tidewater goby (Eucyclogobius newberryi) and the unarmored threespine stickleback (Gasterosteus aculeatus williamsoni) in conjunction with surveys and population monitoring throughout the range of the species in San Diego, Orange, Los Angeles, Ventura, Santa Barbara, and San Luis Obispo Counties, California, for the purpose of enhancing their survival.

Permit No. TE-227263

Applicant: Daniel Edelstein, Novato, California.

The applicant requests an amendment to an existing permit (October 12, 2005, 70 FR 59363) to take (harass by survey) the California clapper rail (Rallus longirostris obsoletus) in conjunction with surveys and population monitoring studies throughout the range of the species in San Francisco, San Mateo, Santa Clara, Alameda, Contra Costa, Solano, Napa, Sonoma, and Marin Counties, California, for the purpose of enhancing its survival.

Permit No. TE-237061

Applicant: Daniel A. Chase, San Francisco, California.

The applicant requests a permit to take (survey, capture, and release) the tidewater goby (Eucyclogobius newberryi) in conjunction with surveys and population monitoring throughout the range of the species in California, for the purpose of enhancing its survival.

Permit No. TE-237086

Applicant: Bruce K. Orr, Berkeley, California.

The applicant requests a permit to take (survey, capture, and release) the vernal pool tadpole shrimp (Lepidurus packardi) in conjunction with surveys throughout the range of the species in California for the purpose of enhancing its survival.

Permit No. TE-049693

Applicant: Jody M. Gallaway, Chico, California.

The applicant requests a permit to take (survey, capture, handle, translocate, and release) the San Francisco garter snake (Thamnophis sirtalis) in conjunction with surveys and habitat enhancement activities throughout the range of the species in California for the purpose of enhancing its survival.

Permit No. TE-837448

Applicant: Douglas W. Allen, San Diego, California.

The applicant requests an amendment to an existing permit (November 15, 2000, 65 FR 69043) to take (capture, collect, and kill) the Conservancy fairy shrimp (Branchinecta conservatio), the longhorn fairy shrimp (Branchinecta longiantenna), and the vernal pool tadpole shrimp (Lepidurus packardi) in conjunction with surveys throughout the range of each species in California for the purpose of enhancing their survival.

Permit No. TE-062125

Applicant: Bureau of Land Management, El Dorado Hills, California.

The applicant requests an amendment to an existing permit (December 2, 2003, 68 FR 67465) to take (survey, capture, handle, and release) the California tiger salamander (Ambystoma californiense) in conjunction with surveys and population monitoring activities throughout the range of the species in California for the purpose of enhancing its survival.

Permit No. TE-02351A

Applicant: Timothy Searl, Santee, California.

The applicant requests a permit to take (capture, handle, mark and release) the Stephens' kangaroo rat (Dipodomys stephensi) and San Bernardino kangaroo rat (Dipodomys merriami parvus) in conjunction with surveys throughout the range of each species in California for the purpose of enhancing their survival.

Permit No. TE-02343A

Applicant: Lori R. Bono, Visalia, California.

The applicant requests a permit to take (survey, capture, handle, and release) the California tiger salamander (Ambystoma californiense) and to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys and population monitoring throughout the range of each species in California for the purpose of enhancing their survival.

Permit No. TE-039463

Applicant: John A. Gallo, Santa Cruz, California.

The applicant requests an amendment to an existing permit (March 28, 2001, 66 FR 16953) to take (harass by survey and monitor nests) the southwestern willow flycatcher (Empidonax traillii extimus) and take (monitor nests) the least Bell's vireo (Vireo bellii pusillus) in conjunction with surveys and population monitoring throughout the range of each species in California, for the purpose of enhancing their survival.

Permit No. TE-02496A

Applicant: Kevin K. Ghalambor, Sacramento, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-061625

Applicant: Stephanie M. Owens, Wheat Ridge, Colorado.

The applicant requests an amendment to an existing permit (October 7, 2002, 67 FR 62492) to take (harass by survey and monitor nests) the southwestern willow flycatcher (Empidonax traillii extimus) in conjunction with surveys and population monitoring throughout the range of this species in California, for the purpose of enhancing its survival.

Permit No. TE-795930

Applicant: Tansley Team, Lincoln, California.

The applicant requests an amendment to an existing permit (September 25, 2009, 74 FR 49008) to take (capture, collect, and kill) the vernal pool tadpole shrimp (Lepidurus packardi) in conjunction with genetic research and to remove/reduce to possession Tuctoria mucronata (Solano grass) and Cordylanthus palmatus (palmate-bracted bird's-beak) from Federal lands in conjunction with botanical surveys, voucher/seed bank collection, and restoration activities throughout the range of each species in California for the purpose of enhancing their survival.

We invite public review and comment on each of these recovery permit applications. Comments and materials we receive will be available for public inspection, by appointment, during normal business hours at the address listed in the ADDRESSES section of this notice.

Michael Long,
Acting Regional Director, Region 8, Sacramento, California.

[FR Doc. 2010-9157 Filed 4-20-10; 8:45 am]

BILLING CODE 4310-55-P